DEPARTMENT OF THE INTERIOR

Geological Survey

[GX12GC009PLSG00]

Agency Information Collection Activity; National Cooperative Geologic Mapping Program (EDMAP and STATEMAP)

AGENCY: United States Geological Survey (USGS), Interior.

ACTION: Notice of an extension of a currently approved collection (1028-0088).

SUMMARY: To comply with the Paperwork Reduction Act of 1995 (PRA), we are notifying the public that we have submitted to the Office of Management and Budget (OMB) a request for an extension of a currently approved information collection (IC) for the National Cooperative Geologic Mapping Program (NCGMP). The NCGMP has two components: Educational (EDMAP) and State (STATEMAP). This notice provides the public an opportunity to comment on the paperwork burden of this collection which is scheduled to expire on August 31, 2012.

DATES: You must submit comments on or before September 24, 2012.

ADDRESSES: Please submit comments on this information collection directly to the Office of Management and Budget, Office of Information and Regulatory Affairs, Attention: Desk Officer for the Department of the Interior, via email (OIRA_DOCKET@omb.eop.gov) or fax (202) 395-5806; and identify your submission as 1028-0088.

Please also submit a copy of your comments to the USGS Information Collection Clearance Officer, U.S. Geological Survey, 12201 Sunrise Valley Drive, MS 807, Reston, VA 20192 (mail); 703-648-7199 (fax); or smbaloch@usgs.gov (email). Please reference Information Collection 1028-0088 in the subject line.

FOR FURTHER INFORMATION CONTACT: Douglas A. Howard, Associate Program Coordinator NCGMP (STATEMAP and EDMAP), USGS Geological Survey, 12201 Sunrise Valley Drive, MS 908, 20192 (mail); at 703-648-6978 (telephone); or dahoward@usgs.gov (email). You may also find details on this information collection request at www.reginfo.gov.

SUPPLEMENTARY INFORMATION: Title: National Cooperative Geologic Mapping Program (EDMAP and STATEMAP).

OMB Control Number: 1028-0088.

Abstract: EDMAP is the educational component of the NCGMP that is intended to train the next generation of geologic mappers. The primary objective of the STATEMAP component of the NCGMP is to establish the geologic framework of areas that are vital to the welfare of individual States.

The NCGMP EDMAP program allocates funds to colleges and universities in the United States and Puerto Rico through an annual competitive cooperative agreement process. Every federal dollar that is awarded is matched with university funds.

Geology professors who are skilled in geologic mapping request EDMAP funding to support undergraduate and graduate students at their college or university in a one-year mentored geologic mapping project that focuses on a specific geographic area.

Only State Geological Surveys are eligible to apply to the STATEMAP component of the National Cooperative Geologic Mapping Program pursuant to the National Geologic Mapping Act (Pub. L. 106-148). Since many State Geological Surveys are organized under a State university system, such universities may submit a proposal on behalf of the State Geological Survey.

Each fall, the program announcements are posted to the Grants.gov Web site and respondents are required to submit applications (comprising of Standard Form 424, 424A, 424B, Proposal Summary Sheet, the Proposal, and Budget Sheets. Additionally, EDMAP proposal must include a Negotiated Rate Agreement, and a Support letter from a State Geologist or USGS Project Chief).

Since 1996, more than $5 million from the NCGMP has supported geologic mapping efforts of more than 1,000 students working with more than 244 professors at 148 universities in 44 states, the District of Columbia, and Puerto Rico. Funds for graduate projects are limited to $17,500 and undergraduate project funds limited to $10,000. These funds are used to cover field expenses and student salaries, but not faculty salaries or tuition. The authority for both programs is listed in the National Geologic Mapping Act (Pub. L. 106-148).

Frequency of Collection: Annually.

Respondent's Obligation: Voluntary (necessary to receive funding).

Estimated Number and Description of Respondents: Approximately 50 University or College faculty annually and approximately 45 State Geological Surveys.

Annual Burden Hours: 5,220 hours.

Estimated Annual Reporting and Recordkeeping “Hour” Burden: We expect to receive approximately 50 applications for EDMAP and 45 applications for STATEMAP each year which takes each applicant approximately 36 hours to complete, totaling 3,420 hours. This includes the time for project conception and development, proposal writing and reviewing, and submitting a project narrative through Grants.gov. We expect to issue 45 EDMAP and 45 STATEMAP grants per year. The grant recipients are also required to submit a final technical report which takes each grant recipient approximately 20 hours to complete, totaling 1,800 hours.

Estimated Annual Reporting and Recordkeeping “Non-Hour Cost”: We have not identified any “non-hour cost” burdens associated with this collection of information.

Public Disclosure Statement: The PRA (44 U.S.C. 3501, et seq.) provides that an agency may not conduct or sponsor and you are not required to respond to, a collection of information unless it displays a currently valid OMB control number.

Comments: To comply with the public consultation process, on February 27, 2012, we published a Federal Register notice (77 FR 11565) announcing our intent to submit this information collection to OMB for approval. In that notice we solicited public comments for 60 days, ending on April 27, 2012. The USGS received one comment. The comment was a general invective about the Federal government. It did not address, and was not germane to, this information collection. Therefore, we have not changed the collection in response to the comment.

We again invite comments concerning this IC on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology. Please note that any comments submitted in response to this notice are a matter of public record. Before including your address, phone number, email address or other personal identifying information in your comment, you should be aware that your entire comment including your personal identifying information, may be made publically available at any time. While you can ask OMB in your comment to withhold your personal identifying information from public review, we cannot guarantee that will be done.

Dated: August 20, 2012.
Douglas A. Howard,
Associate Program Coordinator, National Cooperative Geologic Mapping Program.

[FR Doc. 2012-20878 Filed 8-23-12; 8:45 am]

BILLING CODE 4311-AM-P